DEPARTMENT OF DEFENSE

Office of the Secretary

[Transmittal No. 16-20]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Chandelle K. Parker, DSCA/LMO, (703) 697-9027.

The following is a copy of a letter to the Speaker of the House of Representatives, Transmittal 16-20 with attached Policy Justification and Sensitivity of Technology.

Dated: June 27, 2016.
Aaron Siegel,
Alternate OSD Federal Register Liaison Officer, Department of Defense.

Transmittal No. 16-20

Notice of Proposed Issuance of Letter of Offer Pursuant to Section 36(b)(1) of the Arms Export Control Act, as Amended

(i) Prospective Purchaser: Government of Qatar

(ii) Total Estimated Value:

Major Defense Equipment * | $15 million
Other | 5 million
Total | 20 million

(iii) Description and Quantity or Quantities of Articles or Services under Consideration for Purchase:

Major Defense Equipment (MDE): Fifty (50) Javelin Guided Missiles (Category I) with Containers; Ten (10) Command Launch Units (CLUs) with Integrated Day/Thermal Sights (Category III Sensitive) with Containers.

Non-MDE: Ten (10) Javelin Missile Simulation Rounds, one (1) Enhanced Basic Skills Trainer (EPBST), and twelve (12) Batteries, Non-Rechargeable, six (6) Batteries, Storage, Rechargeable, Battery Discharger, Battery Charger for #9, and ten (10) Battery Coolant Units. Also included in this possible sale are U.S. Government Technical Information and Assistance and Life Cycle Contractor support (LCCS) for twenty-four (24) months or until funds are exhausted. This support provides for personnel, services, materials, facilities, equipment, maintenance, supply support, Integrated Support Plan, product assurance, and configuration management. The estimated cost is $20 million.

(iv) Military Department: U.S. Army.

(v) Prior Related Cases, if any: QA-B-UAR-$113,894,777-11 SEP 14.

(vi) Sales Commission, Fee, etc., Paid, Offered, or Agreed to be Paid: None.

(vii) Sensitivity of Technology Contained in the Defense Article or Defense Services Proposed to be Sold: See Attached Annex.

(viii) Date Report Delivered to Congress: 24 May 2016.

* as defined in Section 47(6) of the Arms Export Control Act.

POLICY JUSTIFICATION

Qatar—Javelin Guided Missiles

The Government of Qatar has requested a possible sale of fifty (50) Javelin Guided Missiles (Category I), and ten (10) Command Launch Units (CLUs) with Integrated Day/Thermal Sight (Category III Sensitive) with Container. Also included in this possible sale are: Ten (10) Javelin Missile Simulation Rounds, one (1) Enhanced Basic Skills Trainer (EPBST), and twelve (12) Battery, Non-Rechargeable, six (6) Battery, Storage, Rechargeable, Battery Discharger, Battery Charger for #9, and ten (10) Battery Coolant Units. Also included in this possible sale are U.S. Government Technical Information and Assistance and Life Cycle Contractor support (LCCS) for twenty-four (24) months or until funds are exhausted. This support provides for personnel, services, materials, facilities, equipment, maintenance, supply support, Integrated Support Plan, product assurance, and configuration management. The total estimated value of Major Defense Equipment is $15 million. The overall total estimated value is $20 million.

This proposed sale contributes to the foreign policy and national security of the United States by helping to improve the security of a regional partner. Qatar is an important force for political stability and economic progress in the Persian Gulf region. This proposed sale strengthens U.S. efforts to promote regional stability by enhancing the defense to a key U.S. ally.

The proposed sale will improve Qatar's capability to meet current and future threats and provide greater security for its critical oil and natural gas infrastructure. Qatar will use the enhanced capability to strengthen its homeland defense. Qatar will have no difficulty absorbing these missiles into its armed forces.

The proposed sale will not alter the basic military balance in the region.

The principal contractor will be Lockheed Martin, Troy, AL. There are no known offset agreements proposed in connection with this potential sale.

Implementation of this proposed sale will require multiple trips by U.S. Government and contractor representatives to travel to Qatar for up to twenty-four (24) months for equipment de-processing, fielding, system checkout, training, and technical logistics support.

There will be no adverse impact on U.S. defense readiness as a result of this proposed sale.

Transmittal No. 16-20

Notice of Proposed Issuance of Letter of Offer Pursuant to Section 36(b)(1) of the Arms Export Control Act, as amended

Annex—Item No. vii

(vii) Sensitivity of Technology:

1. The Javelin Weapon System is a medium-range, man-portable, shoulder-launched, fire-and-forget, anti-tank system for infantry, scouts, and combat engineers. It may also be mounted on a variety of platforms including vehicles, aircraft and watercraft. The system weighs 49.5 pounds and has a maximum range in excess of 2,500 meters. The system is highly lethal against tanks and other systems with conventional and reactive armors. The system possesses a secondary capability against bunkers.

2. Javelin's key technical feature is the use of fire-and-forget technology which allows the gunner to fire and immediately relocate or take cover. Additional special features are the top attack and/or direct fire modes, an advanced tandem warhead and imaging infrared seeker, target lock-on before launch, and soft launch from enclosures or covered fighting positions. The Javelin missile also has a minimum smoke motor thus decreasing its detection on the battlefield.

3. The Javelin Weapon System comprises two major tactical components, which are a reusable Command Launch Unit (CLU) and a round contained in a disposable launch tube assembly. The CLU incorporates an integrated day-night sight that provides a target engagement capability in adverse weather and countermeasure environments. The CLU may also be used in a stand-alone mode for battlefield surveillance and target detection. The CLU's thermal sight is a second generation Forward-Looking Infrared (FLIR) sensor. To facilitate initial loading and subsequent updating of software, all on-board missile software is uploaded via the CLU after mating and prior to launch.

4. The missile is autonomously guided to the target using an imaging infrared seeker and adaptive correlation tracking algorithms. This allows the gunner to take cover or reload and engage another target after firing a missile. The missile has an advanced tandem warhead and can be used in either the top attack or direct fire modes (for targets undercover). An onboard flight computer guides the missile to the selected target.

5. The Javelin Missile System hardware and the documentation are UNCLASSIFIED. The missile software which resides in the CLU is considered SENSITIVE. The sensitivity is primarily in the software programs which instruct the system how to operate in the presence of countermeasures. The overall hardware is also considered SENSITIVE in that the infrared wavelengths could be useful in attempted countermeasure development. The benefits to be derived from the sale, as outlined in the Policy Justification of the notification, outweigh the potential damage that could result if sensitive technology was revealed to unauthorized persons.

6. If a technologically advanced adversary were to obtain knowledge of the specific hardware or software elements, the information could be used to develop countermeasures that might reduce weapon system effectiveness or be used in the development of a system with similar or advanced capabilities.

7. All defense articles and services listed in this transmittal have been authorized for release and export to the Government of Qatar.

[FR Doc. 2016-15518 Filed 6-29-16; 8:45 am]

BILLING CODE 5001-06-P